DEPARTMENT OF COMMERCE

National Oceanic and Atmospheric Administration

RIN 0648-XG75

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 141st meeting to consider and take actions on fishery management issues in the Western Pacific Region.

DATES: The 141st Council meeting and public hearings will be held at 1 p.m. (Hawaii Standard Time) on Monday, April 14, 2008 (12 noon in American Samoa and 9 a.m. on Tuesday, April 15, 2008, in Guam and the Commonwealth of the Northern Mariana Islands) at the Council Office in Honolulu, HI and by teleconference. For specific times and the agenda, see SUPPLEMENTARY INFORMATION.

ADDRESSES: The 141st Council meeting and public hearings will be held at the Council's office, 1164 Bishop Street, Suite 1400, Honolulu, HI 96813. For participants residing in American Samoa, the Northern Mariana Islands, Guam, Hawaii and the continental United States, the 141st Council meeting telephone conference call-in-number is: 1-888-482-3560; Access Code; 5228220. For Guam and international participants, the call-in-number is: 1-647-723-3959; Access Code: 5228220.

FOR FURTHER INFORMATION CONTACT: Kitty M. Simonds, Executive Director; telephone: 808-522-8220; FAX: 808-522-8226.

SUPPLEMENTARY INFORMATION: The Council transmitted the 140th Council Meeting Federal Register notice to NMFS.Regs@noaa.gov on February 15, 2008, in accordance with the NMFS Regulatory Unit guidelines. NMFS failed to transmit this notice to the Office of the Federal Register for publication and the lack of publication was announced on the last day of the 140th Council Meeting. While the notice was published on the last day of the meeting, this did not fulfill the requirement of advance notification to the public pursuant to the Magnuson-Stevens Fishery Conservation and Management Act.

This notice advises the public that the Council will convene its 141st Meeting at 1 p.m. (Hawaii Standard Time) Monday, April 14, 2008 (12 noon in American Samoa and 9 a.m. on Tuesday, April 15, 2008, in Guam and the Commonwealth of the Northern Mariana Islands) at the Council Office in Honolulu, HI and by teleconference. The Council will consider, and take action on, regulatory action items discussed at the 140th meeting and provide the public with an opportunity for comment on items listed as regulatory actions in the proposed 141st meeting agenda.

The documents and records for the 140th Council Meeting action items are available for public inspection on the Council's website, http://www.wpcouncil.org and at the Council Office at 1164 Bishop St, Suite 1400, Honolulu, HI 96813.

In addition to the agenda items listed here, the Council will hear recommendations from other Council advisory groups. Public comment periods will be provided near the end of the meeting agenda before Council discussion and action. The order in which agenda items are addressed may change. The Council will meet as late as necessary to complete scheduled business.

Schedule and Agenda for Council Meeting

1 p.m. 5 p.m. Monday, April 14, 2008

1. Introductions

2. Approval of Agenda

3. Approval of 139th Minutes

4. Pelagics Fisheries Regulatory Actions

a. Hawaii Swordfish Fishery Effort

b. Squid Permits

c. American Samoa Longline Program Modifications

d. Commonwealth of the Northern Mariana Islands(CNMI)Longline Exclusion Zone

e. American Samoa Purse-Seine Exclusion Zones

f. Guam Purse-Seine Exclusion Zones

g. CNMI Purse-Seine Exclusion Zones

5. Hawaii Bottomfish Fisheries Regulatory Actions

a. Main Hawaiian Islands (MHI) Bottomfish Risk Analysis

6. Program Planning, Research, and Executive/Budget Actions

a. Annual Catch Limits

b. Community Development Plan (CDP) Regulatory Amendment to Allow Future CDPs

7. Public Hearing

8. Council Discussion and Action

9. Other Business

Special Accommodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: March 26, 2008.
William D. Chappell,
Acting Director, Office of Sustainable Fisheries, National Marine Fisheries Service.

[FR Doc. 08-1083 Filed 3-26-08; 11:16 am]

BILLING CODE 3510-22-S